DEPARTMENT OF HEALTH AND HUMAN SERVICES

Food and Drug Administration

[Docket No. FDA-2008-N-0487]

Agency Information Collection Activities; Proposed Collection; Comment Request; Food Safety Survey

AGENCY: Food and Drug Administration, HHS.

ACTION: Notice.

SUMMARY: The Food and Drug Administration (FDA) is announcing an opportunity for public comment on the proposed collection of certain information by the agency. Under the Paperwork Reduction Act of 1995 (the PRA), Federal agencies are required to publish notice in the Federal Register concerning each proposed collection of information, including each proposed reinstatement of an existing collection of information, and to allow 60 days for public comment in response to the notice. This notice solicits comments on a voluntary consumer survey about food safety.

DATES: Submit written or electronic comments on the collection of information by November 17, 2008.

ADDRESSES: Submit electronic comments on the collection of information to http://www.regulations.gov. Submit written comments on the collection of information to the Division of Dockets Management (HFA-305), Food and Drug Administration, 5630 Fishers Lane, rm. 1061, Rockville, MD 20852. All comments should be identified with the docket number found in brackets in the heading of this document.

FOR FURTHER INFORMATION CONTACT: Jonna Capezzuto, Office of Information Management (HFA-710), Food and Drug Administration, 5600 Fishers Lane, Rockville, MD 20857, 301-796-3794.

SUPPLEMENTARY INFORMATION:

I. Background

Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed reinstatement of an existing collection of information, before submitting the collection to OMB for approval. To comply with this requirement, FDA is publishing notice of the proposed collection of information set forth in this document.

With respect to the following collection of information, FDA invites comments on these topics: (1) Whether the proposed collection of information is necessary for the proper performance of FDA's functions, including whether the information will have practical utility; (2) the accuracy of FDA's estimate of the burden of the proposed collection of information, including the validity of the methodology and assumptions used; (3) ways to enhance the quality, utility, and clarity of the information to be collected; and (4) ways to minimize the burden of the collection of information on respondents, including through the use of automated collection techniques, when appropriate, and other forms of information technology.

Food Safety Survey (OMB Control Number 0910-0345—Reinstatement)

Under section 903(b)(2) of the Federal Food, Drug, and Cosmetic Act (21 U.S.C. 393(b)(2)), FDA is authorized to conduct research relating to foods and to conduct educational and public information programs relating to the safety of the nation's food supply. The Food Safety Survey is a nationally representative survey of consumers' knowledge, attitudes, and beliefs about food safety. Previous versions of the survey were collected in 1988, 1993, 1998, 2001, and 2006. Data from the previous surveys are being used to evaluate two Healthy People 2010 objectives: (1) Increase the proportion of consumers who follow key food safety practices (Objective 10-5), and (2) reduce severe allergic reactions to food among adults (Objective 10-4b). Additionally, data are used to measure trends in consumer food safety habits including hand and cutting board washing, cooking practices, and use of food thermometers. Finally, data are used to evaluate educational messages and to inform policymakers about consumer attitudes about novel technologies such as food irradiation and biotechnology.

Since 2006, there have been several high profile recalls of FDA-regulated food due to contamination. Information about food recalls does not always reach the intended audience (Refs. 1, 2, and 3). The Food Safety Survey planned for 2009 will look specifically at reasons why consumers do not always heed food recall alerts. A new food recall module will be added that contains new questions to learn about how recent food recalls have affected consumer confidence in the food supply and what effect, if any, they have on consumers' home food safety behaviors. This information will help FDA develop strategies to more effectively communicate food recall information to the public.

The methods for the 2009 version of the Food Safety Survey will be the same as for the previous Food Safety Surveys. A nationally representative sample of 4,000 adults in households with telephones will be selected at random and interviewed by telephone. This survey will include an oversample of Hispanics with a minimum of 500 Hispanics sampled. Additionally, 200 initial non-respondents will be asked to participate in a short version of the survey to conduct a non-response analysis. Participation will be voluntary. Cognitive interviews and a pre-test will be conducted prior to fielding the survey.

FDA estimates the burden of this collection of information as follows:

Table 1—Estimated Annual Reporting Burden¹
Activity | No. of Respondents | Annual Frequency per Response | Total Annual Responses | Hours per Response | Total Hours
Cognitive Interviews | 20 | 1 | 20 | 1 | 20
Pretest | 27 | 1 | 27 | 0.5 | 14
Screener | 10,000 | 1 | 10,000 | .0167 | 167
Survey | 4,000 | 1 | 4,000 | .30 | 1,200
Non-response | 200 | 1 | 200 | .10 | 20
Total | 1,421
¹ There are no capital costs or operating and maintenance costs associated with this collection of information.

FDA's burden estimate is based on the agency's prior experience with the Food Safety Survey.

Please note that on January 15, 2008, the FDA Division of Dockets Management Web site transitioned to the Federal Dockets Management System (FDMS). FDMS is a Government-wide, electronic docket management system. Electronic comments or submissions will be accepted by FDA only through FDMS at http://www.regulations.gov.

II. References

1. Cuite, C.L., S.C. Condry, M.L. Nucci, W.K. Hallman. “Public Response to the Contaminated Spinach Recall of 2006.” (Publication number RR-0107-013), 2007. New Brunswick, NJ: Rutgers, the State University of New Jersey, Food Policy Institute.

2. Mahon, B.E., L. Slutsker, L. Hutwagner, C. Drenzek, K. Maloney, K. Toomey, P.M. Griffin. “Consequences in Georgia of a Nationwide Outbreak of Salmonella Infections: What You Don't Know Might Hurt You.” American Journal of Public Health. 89(1):31-35, 1999.

3. Patrick, M.E., P.M. Griffin, A.C. Voetsch, P.S. Mead, “Effectiveness of Recall Notification: Community Response to a Nationwide Recall of Hot Dogs and Deli Meats.” Journal of Food Protection. 70(10):2373-2376, 2007.

Dated: September 10, 2008.
Jeffrey Shuren,
Associate Commissioner for Policy and Planning.

[FR Doc. E8-21624 Filed 9-16-08; 8:45 am]

BILLING CODE 4160-01-S